DEPARTMENT OF EDUCATION

Notice of Proposed Information Collection Requests

AGENCY: Department of Education.

ACTION: Correction notice.

SUMMARY: On July 7, 2004, the Department of Education published a notice in the Federal Register (Page 40881, Column 3) for the information collection, “Paul Douglas Teacher Scholarship Program Performance Report.” The title of this information collection has been corrected. The corrected title is “Targeted Teacher Deferments (Teacher Shortage Areas)”. The Leader, Regulatory Information Management Group, Office of the Chief Information Officer, hereby issues a correction notice as required by the Paperwork Reduction Act of 1995.

Dated: July 8, 2004.
Angela C. Arrington,
Regulatory Information Management Group, Office of the Chief Information Officer.

[FR Doc. 04-15803 Filed 7-12-04; 8:45 am]

BILLING CODE 4000-01-P